DEPARTMENT OF HOMELAND SECURITY

U.S. Citizenship and Immigration Services

[CIS No. 2837-25; DHS Docket No. USCIS-2014-0004]

RIN 1615-ZB79

Termination of the Designation of South Sudan for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of South Sudan for Temporary Protected Status. The designation of South Sudan is set to expire on November 3, 2025. After reviewing country conditions and consulting with appropriate U.S. Government agencies, the Secretary determined that South Sudan no longer continues to meet the conditions for the designation for Temporary Protected Status. The Secretary, therefore, is terminating the Temporary Protected Status designation of South Sudan as required by statute. This termination is effective January 5, 2026. After January 5, 2026, nationals of South Sudan (and aliens having no nationality who last habitually resided in South Sudan) who have been granted Temporary Protected Status under South Sudan's designation will no longer have Temporary Protected Status.

DATES: The designation of South Sudan for Temporary Protected Status is terminated, effective at 11:59 p.m., local time, on January 5, 2026.

FOR FURTHER INFORMATION CONTACT: Humanitarian Affairs Division, Office of Policy and Strategy, U.S. Citizenship and Immigration Services, Department of Homeland Security, (240) 721-3000.

SUPPLEMENTARY INFORMATION:

List of Abbreviations

CFR—Code of Federal Regulations

DHS—U.S. Department of Homeland Security

EAD—Employment Authorization Document

FR—Federal Register

FRN—Federal Register Notice

Government—U.S. Government

INA—Immigration and Nationality Act

Secretary—Secretary of Homeland Security

USCIS—U.S. Citizenship and Immigration Services

U.S.C.—United States Code

What is Temporary Protected Status?

The Immigration and Nationality Act (INA) authorizes the Secretary of Homeland Security, after consultation with appropriate agencies of the U.S. Government, to designate a foreign state (or part thereof) for Temporary Protected Status if the Secretary determines that certain country conditions exist. See INA sec. 244(b)(1), 8 U.S.C. 1254a(b)(1). The Secretary, in her discretion, may grant Temporary Protected Status to eligible nationals of that foreign state (or aliens having no nationality who last habitually resided in the designated foreign state). See INA sec. 244(a)(1)(A), 8 U.S.C. 1254a(a)(1)(A).

At least 60 days before the expiration of a foreign state's Temporary Protected Status designation or extension, the Secretary—after consultation with appropriate U.S. Government agencies—must review the conditions in the foreign state designated for Temporary Protected Status to determine whether the conditions for the Temporary Protected Status designation continue to be met. See INA sec. 244(b)(3)(A), 8 U.S.C. 1254a(b)(3)(A). If the Secretary determines that the conditions in the foreign state continue to meet the specific statutory criteria for Temporary Protected Status designation, Temporary Protected Status will be extended for an additional period of 6 months or, in the Secretary's discretion, 12 or 18 months. See INA sec. 244(b)(3)(A), (C), 8 U.S.C. 1254a(b)(3)(A), (C). If the Secretary determines that the foreign state no longer meets the conditions for Temporary Protected Status designation, the Secretary must terminate the designation. See INA sec. 244(b)(3)(B), 8 U.S.C. 1254a(b)(3)(B). There is no judicial review of “any determination of the [Secretary] with respect to the designation, or termination or extension of a designation of a foreign state” for Temporary Protected Status. See INA sec. 244(b)(5)(A), 8 U.S.C. 1254a(b)(5)(A).

Temporary Protected Status is a temporary immigration benefit granted to eligible nationals of a country designated for Temporary Protected Status under the INA, or to eligible aliens without nationality who last habitually resided in the designated country. During the designation period, Temporary Protected Status beneficiaries are eligible to remain in the United States and may not be removed, so long as they continue to meet the requirements of Temporary Protected Status. In addition, Temporary Protected Status beneficiaries are authorized to work and obtain an Employment Authorization Document (EAD), if requested, for a period of one year from the date of adjudication or the duration of the Temporary Protected Status designation, whichever is less. Temporary Protected Status beneficiaries may also apply for and be granted travel authorization as a matter of discretion. The granting of Temporary Protected Status does not result in or lead to lawful permanent resident status or any other immigration status.

To qualify for Temporary Protected Status, beneficiaries must meet the eligibility requirements at INA section 244(c)(2), 8 U.S.C. 1254a(c)(2) in accordance with the implementing regulations at 8 CFR parts 244 and 1244. When the Secretary terminates a country's designation, beneficiaries return to the same immigration status or category that they maintained before Temporary Protected Status, if any (unless that status or category has since expired or been terminated), or any other lawfully obtained immigration status or category they received while registered for Temporary Protected Status, as long as it is still valid on the date Temporary Protected Status terminates.

Designation of South Sudan for Temporary Protected Status

South Sudan was initially designated for Temporary Protected Status on October 13, 2011, based on ongoing armed conflict and extraordinary and temporary conditions.¹ Following the initial designation, DHS extended and newly designated South Sudan for Temporary Protected Status in 2013,² 2014,³ and 2016.⁴ In 2017,⁵ 2019,⁶ and 2020,⁷ DHS extended Temporary Protected Status for South Sudan, based on ongoing armed conflict and extraordinary and temporary conditions. In 2022 ⁸ and 2023,⁹ former Secretary Mayorkas extended and newly designated Temporary Protected Status. In May 2025, Temporary Protected Status for South Sudan was automatically extended for six months, from May 4, 2025, to November 3, 2025.¹⁰ The automatic extension occurred because Secretary Noem was provided with a non-current record from the Department of State that was signed November 6, 2024, which, together with other factors, prevented Secretary Noem from making an informed decision by the March 4, 2025, statutory deadline.

¹ Designation of Republic of South Sudan for Temporary Protected Status, 76 FR 63629 (Oct. 13, 2011).

² Extension and Redesignation of South Sudan for Temporary Protected Status, 78 FR 1866 (Jan. 9, 2013).

³ Extension and Redesignation of South Sudan for Temporary Protected Status, 79 FR 52019 (Sept. 2, 2014).

⁴ Extension and Redesignation of South Sudan for Temporary Protected Status, 81 FR 4051 (Jan. 25, 2016).

⁵ Extension of South Sudan for Temporary Protected Status, 82 FR 44205 (Sept. 21, 2017).

⁶ Extension of the Designation of South Sudan for Temporary Protected Status, 84 FR 13688 (Apr. 5, 2019).

⁷ Extension of the Designation of South Sudan for Temporary Protected Status, 85 FR 69344 (Nov. 2, 2020).

⁸ Extension and Redesignation of South Sudan for Temporary Protected Status, 87 FR 12190 (Mar. 3, 2022).

⁹ Extension and Redesignation of South Sudan for Temporary Protected Status, 88 FR 60971 (Sept. 6, 2023).

¹⁰ Extension of South Sudan Designation for Temporary Protected Status, 90 FR 19217 (May 6, 2025).

Secretary's Authority To Terminate the Designation of South Sudan for Temporary Protected Status

At least 60 days before the expiration of a foreign state's Temporary Protected Status designation or extension, the Secretary—after consultation with appropriate U.S. Government agencies—must review the conditions in the foreign state designated for Temporary Protected Status to determine whether the country continues to meet the conditions for the designation. See INA sec. 244(b)(3)(A), 8 U.S.C. 1254a(b)(3)(A). If the Secretary determines that a foreign state no longer meets the conditions for the Temporary Protected Status designation, the Secretary must terminate the designation. See INA sec. 244(b)(3)(B), 8 U.S.C. 1254a(b)(3)(B). The termination may not take effect earlier than 60 days after the date the Federal Register notice of termination is published, or if later, the expiration of the most recent previous extension of the country designation. See id. The Secretary may determine the appropriate effective date of the termination and expiration of any Temporary Protected Status-related documentation, such as Employment Authorization Documents. See id.; see also INA sec. 244(d)(3), 8 U.S.C. 1254a(d)(3) (providing the Secretary the discretionary “option” to allow for a certain “orderly transition” period if she determines it to be appropriate).

Reasons for the Secretary's Termination of the Temporary Protected Status Designation for South Sudan

Consistent with INA section 244(b)(3)(A), 8 U.S.C. 1254a(b)(3)(A), after consulting with appropriate U.S. Government agencies, the Secretary reviewed current country conditions in South Sudan and considered whether South Sudan continues to meet the conditions for the designation under INA section 244(b)(1)(A) or (C), 8 U.S.C. 1254a(b)(1)(A) or (C). This review included examining: (a) whether there is ongoing armed conflict within the state, and (b) due to such conflict, requiring aliens who are nationals of that state to return would pose a serious threat to their personal safety. It also included reviewing: (c) whether extraordinary and temporary conditions in South Sudan that prevent South Sudanese nationals from returning in safety continue to exist, and (d) if permitting South Sudanese nationals to remain temporarily in the United States is contrary to the national interest of the United States. Based on the Department's review, the Secretary has determined the situation in South Sudan no longer meets the criteria for an ongoing armed conflict that poses a serious threat to the personal safety of returning South Sudanese nationals. While there is inter/intra-communal violence linked to border disputes, cross-border violence, cyclical and retaliatory attacks, and ethnic polarization, return to full-scale civil war, to-date, has been avoided. Recent diplomatic developments between the U.S. Department of State and South Sudan's transitional government indicate South Sudan's willingness to ensure the safety and reintegration of its returning nationals.¹¹ Further, regarding the extraordinary and temporary conditions, there have been improvements in South Sudan's civil safety outlook, which would allow aliens to safely return to the country. The United Nations Mission in the Republic of South Sudan is also building the capacity of South Sudan's local police and justice system so South Sudan's government can further protect its own citizens.¹² Improvements in displacement trends,¹³ infrastructure,¹⁴ and governance ¹⁵ point to civilian movement and a national trajectory of increased civilian safety and security as South Sudan seeks to make gains in stabilizing the country, with the support of the international community.

¹¹ South Sudan says it will accept deportee amid Rubio's visa revocations, AXIOS, Apr. 8, 2025, available at: https://www.axios.com/2025/04/07/south-sudan-rubio-visa-revocation.

¹² United Nations Mission in the Republic of South Sudan, United Nations, available at https://unmiss.unmissions.org/background.

¹³ Over 500,000 South Sudanese nationals have returned to their homeland since the 2018 peace agreement. United Nations High Commissioner for Refugees, South Sudan Refugee Crisis, 2024, available at https://www.unrefugees.org/emergencies/south-sudan/.

¹⁴ The South Sudanese government has taken a step forward in its national fiber optic infrastructure project, with the Steering Committee approving a budget of over $9 million for the design phase. This project, in conjunction with Intelsat and Whitaker Peace and Development Initiative's project to deliver high speed internet to community centers in South Sudan and Uganda will be a cornerstone of the government's digital transformation agenda aimed at improving connectivity and expanding access to broadband internet across the country. Tech Africa News, South Sudan Approves $9M Budget for National Fiber Optic Network Design, June 30, 2025, available at https://techafricanews.com/2025/06/30/south-sudan-approves-9m-budget-for-national-fiber-optic-network-design/; Developing Telecoms, Intelsat and NGO to deliver high-speed internet in South Sudan and Uganda, June 30, 2025, available at https://developingtelecoms.com/telecom-business/humanitarian-communications/18698-intelsat-and-ngo-to-deliver-high-speed-internet-in-south-sudan-and-uganda.html.

¹⁵ From 2020-2024, the South Sudan Enhancing Community Resilience and Local Governance Project, a $45 million initiative, funded by the World Bank and implemented by the United Nations Office for Project Services and the International Organization for Migration on behalf of the Government of South Sudan, completed 345 sub-projects, building schools, health facilities, water points, roads, markets, and community centers, provided nearly 740,000 people with improved access to essential services, and reactivated and established community-level government institutions. The successor to this program is the Enhancing Community Resilience and Local Government Project Phase II, a $150 million project with a focus on flood resilience, disaster risk management, and institutional capacity building at all levels of government. World Bank, Building community resilience from the ground up in South Sudan, Feb. 13, 2025, available at https://www.worldbank.org/en/news/feature/2025/01/24/building-community-resilience-from-the-ground-up-in-south-sudan.

Although residual challenges from the civil war remain, there is no longer an ongoing armed conflict that poses a serious threat to the personal safety of returning South Sudanese nationals. The Secretary has also determined that while certain extraordinary and temporary conditions remain, the termination of the South Sudan designation is required because it is contrary to the national interest to permit South Sudanese nationals (or nationals having no nationality who last habitually resided in South Sudan) to remain temporarily in the United States.

In the Temporary Protected Status statute, Congress expressly prohibits the Secretary from designating a country for Temporary Protected Status based on extraordinary and temporary conditions if she finds that “permitting the aliens to remain temporarily in the United States is contrary to the national interest of the United States.” INA 244(b)(1)(C), 8 U.S.C. 1254a(b)(1)(C). Accordingly, as the Department and the Attorney General have long recognized, such a “national interest” assessment is an essential element of a determination whether to extend or terminate a country's Temporary Protected Status designation, including the 2023 South Sudan designation, which was based on “extraordinary and temporary conditions.” ¹⁶

¹⁶ Cf., e.g., Termination of Designation of Liberia Under Temporary Protected Status Program After Final 6-Month Extension, 63 FR 15437, 15438 (Mar. 31, 1998) (terminating Liberia Temporary Protected Status designation after “consultations with the appropriate agencies of the U.S. Government concerning (a) the conditions in Liberia; and (b) whether permitting nationals of Liberia . . . to remain temporarily in the United States is contrary to the national interest of the United States”).

“National interest” is an expansive standard that may encompass an array of broad considerations, including foreign policy, public safety (e.g., potential nexus to criminal gang membership), national security, migration factors (e.g., pull factors), immigration policy (e.g., enforcement prerogatives), and economic considerations (e.g., adverse effects on U.S. workers, impact on U.S. communities).¹⁷ Determining whether permitting a class of aliens to remain temporarily in the United States is contrary to the U.S. national interest therefore calls upon the Secretary's expertise and discretionary judgment, informed by her consultations with appropriate U.S. Government agencies.

¹⁷ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

There are compelling foreign policy reasons for ending the Temporary Protected Status designation for South Sudan as the designation can carry implicit foreign policy messages. Considering the Department of State's stated goal of ensuring that South Sudan accepts the return of its citizens in a timely manner when the United States seeks to remove them,¹⁸ the transitional South Sudanese government's current compliance with such removals,¹⁹ and the continued partnership between the United States and South Sudan in third country removals,²⁰ the termination of the Temporary Protected Status designation for South Sudan serves the diplomatic interests of the United States by sending consistent foreign policy messaging at a pivotal moment in U.S.-South Sudan relations.

¹⁸ Defending America's Security through Visa and Travel Restrictions on South Sudan, U.S. Department of State, Apr. 5, 2025, available at: https://www.state.gov/defending-americas-security-through-visa-and-travel-restrictions-on-south-sudan/.

¹⁹ South Sudan says it will accept deportee amid Rubio's visa revocations, AXIOS, Apr. 8, 2025, available at: https://www.axios.com/2025/04/07/south-sudan-rubio-visa-revocation.

²⁰ U.S. Pushes More African Countries to Accept Deported Migrants, The Wall Street Journal, July 9, 2025, available at: https://www.wsj.com/politics/policy/u-s-pushes-more-african-countries-to-accept-deported-migrants-b6f330c5?mod=Searchresults_pos1&page=1; MSN, U.S. completes deportation of 8 men to South Sudan after weeks of legal wrangling, July 5, 2025, available at https://www.msn.com/en-us/news/world/us-completes-deportation-of-8-men-to-south-sudan-after-weeks-of-legal-wrangling/ar-AA1I2eRU.

In addition to foreign policy concerns, there are public safety and national security risks associated with the continued designation of South Sudan for Temporary Protected Status. A portion of the South Sudan Temporary Protected Status population has been subjects of administrative investigation for fraud, public safety and national security concerns. The Secretary accordingly took account of those cases in making her determination that permitting South Sudanese Temporary Protected Status beneficiaries to remain in the United States is contrary to the national interest of the United States.

President Trump in his recent immigration and border-related executive orders and proclamations, clearly articulated an array of policy imperatives bearing upon the national interest. In Executive Order 14159, President Trump underscored that enforcing the immigration laws “is critically important to the national security and public safety of the United States.” ²¹ In furtherance of that objective, the President directed the Secretary, along with the Attorney General and Secretary of State, to promptly take all appropriate action, consistent with law, to rescind policies that led to increased or continued presence of illegal aliens in the United States.²² Among the directed actions are to ensure that the Temporary Protected Status designations are consistent with the Temporary Protected Status statute and “are appropriately limited in scope and made for only so long as may be necessary to fulfill the textual requirements of that statute.” ²³

²¹ E.O. 14159, Protecting the American People Against Invasion, sec. 1, 90 FR 8443, 8443 (Jan. 20, 2025).

²² Id., sec. 16, 90 FR 8446.

²³ Id., sec. 16(b), 90 FR 8446.

DHS estimates that there are 232 current approved beneficiaries under the designation of South Sudan for Temporary Protected Status. As of October 6, 2025, there are 73 total pending applications for the designation of South Sudan for Temporary Protected Status.²⁴

²⁴ Estimates as of October 6, 2025.

Effective Date of Termination of the Designation

The Temporary Protected Status statute provides that the termination of a country's Temporary Protected Status designation may not be effective earlier than 60 days after the notice is published in the Federal Register or, if later, the expiration of the most-recent previous extension. See INA sec. 244(b)(3)(B), 8 U.S.C. 1254a(b)(3)(B).

The Temporary Protected Status statute authorizes the Secretary, at her discretion, to allow for an extended “orderly transition” period with respect to the termination and the expiration of any Temporary Protected Status-related documentation, such as Employment Authorization Documents. The Secretary has determined, in her discretion, that a 60-day transition period is sufficient and warranted here given the Secretary's finding that continuing to permit the South Sudanese nationals to remain temporarily in the United States is contrary to the U.S. national interest. See INA sec. 244(d)(3), 8 U.S.C. 1254a(d)(3).²⁵ Accordingly, the termination of the South Sudan Temporary Protected Status designation will be effective 60 days from this notice's publication date.²⁶

²⁵ Whether to allow for an additional “orderly departure” period following a Temporary Protected Status designation termination (beyond the statutory minimum of 60 days) is an “option” left to the Secretary's unfettered discretion. INA 244(d)(3), 8 U.S.C. 1254a(d)(3). Although DHS has allowed such extended periods for certain Temporary Protected Status terminations, see, e.g., Termination of the Designation of Sudan for Temporary Protected Status, 82 FR 47228 (Oct. 11, 2017) (12-month orderly transition period); Termination of the Designation of Sierra Leone Under the Temporary Protected Status Program; Extension of Employment Authorization Documentation, 68 FR 52407 (Sept. 3, 2003) (6-month orderly transition period), certain other Temporary Protected Status designations were terminated without allowing for such transition periods, see, e.g., Termination of Designation of Angola Under the Temporary Protected Status Program, 68 FR 3896 (Jan. 27, 2003) (no orderly transition period); Termination of Designation of Lebanon Under Temporary Protected Status Program, 58 FR 7582 (Feb. 8, 1993) (same)

²⁶ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

DHS recognizes that South Sudanese Temporary Protected Status beneficiaries continue to be authorized to work during the 60-day transition period.²⁷ Accordingly, through this Federal Register notice, DHS automatically extends the validity of certain Employment Authorization Documents previously issued under the Temporary Protected Status designation of South Sudan through January 5, 2026. Therefore, as proof of continued employment authorization through January 5, 2026, Temporary Protected Status beneficiaries can show their Employment Authorization Documents that have the notation A-12 or C-19 under Category and a “Card Expires” dates of November 3, 2023, May 3, 2025, and November 3, 2025.

²⁷ See INA 244(a)(1)(B), 8 U.S.C. 1254a(a)(1)(B); see also 8 CFR 244.13(b).

The Secretary has considered putative reliance interests in the South Sudan Temporary Protected Status designation, especially when considering whether to allow for an additional transition period akin to that allowed under certain previous Temporary Protected Status terminations. Temporary Protected Status, as the name itself makes clear, is an inherently temporary status. Temporary Protected Status designations are time-limited and must be periodically reviewed, and Temporary Protected Status notices clearly notify aliens of the designations' expiration dates. Whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3)(A)-(B), (d)(3); 8 U.S.C. 1254a(b)(3)(A)-(B), (d)(3).

Notice of the Termination of the Temporary Protected Status Designation of South Sudan

By the authority vested in me as Secretary under INA section 244(b)(3), 8 U.S.C. 1254a(b)(3), I have reviewed, in consultation with the appropriate U.S. Government agencies, (a) conditions in South Sudan; (b) whether permitting the nationals of South Sudan (and aliens having no nationality who last habitually resided in South Sudan) to remain temporarily in the United States is contrary to the national interest of the United States; (c) whether South Sudan is experiencing ongoing armed conflict that poses a serious threat to the personal safety of South Sudan nationals, and (d) whether extraordinary and temporary conditions in South Sudan that prevent South Sudanese nationals from returning in safety continue to exist. Based on my review, I have determined that South Sudan no longer continues to meet the conditions for Temporary Protected Status under INA section 244(b)(1)(A) or (C), 8 U.S.C. 1254a(b)(1)(A) or (C).

Accordingly, I order as follows:

(1) Pursuant to INA section 244(b)(3)(B), 8 U.S.C. 1254a(b)(3)(B), and considering INA section 244(d)(3), 8 U.S.C. 1254a(d)(3), the designation of South Sudan for Temporary Protected Status is terminated effective at 11:59 p.m., local time, on January 5, 2026.

(2) Information concerning the termination of Temporary Protected Status for nationals of South Sudan (and aliens having no nationality who last habitually resided in South Sudan) under the designation will be available at local USCIS offices upon publication of this notice and through the USCIS Contact Center at 1-800-375-5283. This information will also be published on the USCIS website at www.uscis.gov.

Kristi Noem,
Secretary of Homeland Security.

[FR Doc. 2025-19800 Filed 11-5-25; 8:45 am]

BILLING CODE 9111-97-P